DEPARTMENT OF THE INTERIOR

Fish and Wildlife Service

Alligator River National Wildlife Refuge, NC; Meeting

ACTION: Notice of Intent to conduct public scoping meetings to obtain suggestions and information on issues to include in the preparation of Comprehensive Conservation Plans for Alligator River Wildlife Refuge in Dare County, North Carolina; Mattamuskeet and Swanquarter National Wildlife Refuges in Hyde County, North Carolina; and Pocosin Lakes National Wildlife Refuge in Tyrrell County, North Carolina.

SUMMARY: This notice advises the public that the U.S. Fish and Wildlife Service intends to gather information necessary to prepare a Comprehensive Conservation Plan and associated environmental documents for these refuges in pursuant to the National Environmental Policy Act and implementing regulations.

The meetings are scheduled as follows:

Thursday, February 15, 2001

1:00 p.m.-4:00 p.m.

6:00 p.m.-9:00 p.m.

Department of Environment and Natural Resources, Meeting Room, 943 Washington Square Mall, Washington, N.C. 27889

Friday, February 16, 2001

6:00 p.m.-9:00 p.m.

Mattamuskeet High School, Cafeteria, 20370 U.S. 264, Swanquarter, N.C. 27885

Tuesday, February 20, 2001

6:00 p.m.-9:00 p.m.

Vernon James Center, 207 Research Road, Plymouth, N.C. 27962

Thursday, February 22, 2001

6:00 p.m.-9:00 p.m.

Tyrrell Hall, 906 Highway 64 East, Columbia, N.C. 27925

Friday, February 23, 2001

6:00 p.m.-9:00 p.m.

Manns Harbor Community Center, 6677 Highway 64/264, Manns Harbor, N.C. 27953

DATES: Written comments should be received on or before March 9, 2001.

ADDRESSES: Comments and requests for information concerning these refuges may be addressed to: D.A. Brown, M.S., P.W.S., 1106 West Queen Street, P.O. Box 329, Edenton, North Carolina 27932, 252/482-2364, 252/482-3855 (fax), 252/337-5283 (cell).

Information concerning these refuges may be found at the following website: http://rtncf-rci.ral.r4.fws.gov.

If you wish to comment, you may submit your comments by any one of several methods. You may mail comments to the above address. You may also comment via the Internet to the following address: D_A_Brown@fws.gov. Please submit Internet comments as an ASCII file avoiding the use of special characters and any form of encryption. Please also include your name and return address in your Internet message. If you do not receive a confirmation from the system that we have received your Internet message, contact D.A. Brown directly at the above address. Finally, you may hand-deliver comments to Mr. Brown at 1106 West Queen Street, Edenton, North Carolina. Our practice is to make comments, including names and home addresses of respondents, available for public review during regular business hours. Individual respondents may request that we withhold their home address from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety.

SUPPLEMENTARY INFORMATION: It is the policy of the Fish and Wildlife Service to have all lands within the National Wildlife Refuge System managed in accordance with an approved Comprehensive Conservation Plan. The plan guides management decisions and identifies the goals, objectives, and strategies for achieving refuge purposes. Public input into this planning process is encouraged. The plan will provide other agencies and the public with a clear understanding of the desired conditions of the refuge and how the Service will implement management strategies.

Dated: January 30, 2001.
H. Dale Hall,
Acting Regional Director.

[FR Doc. 01-3115 Filed 2-6-01; 8:45 am]

BILLING CODE 4310-55-M